SUSQUEHANNA RIVER BASIN COMMISSION

Commission Meeting

AGENCY: Susquehanna River Basin Commission.

ACTION: Notice.

SUMMARY: The Susquehanna River Basin Commission will hold its regular business meeting on June 4, 2015, in Baltimore, Maryland. Details concerning the matters to be addressed at the business meeting are contained in the Supplementary Information section of this notice.

DATES: June 4, 2015, at 9:00 a.m.

ADDRESSES: City Crescent Building, 4th Floor, EEOC Conference Room, 10 S. Howard Street, Baltimore, Md. 21201. (The recommended parking option is to park at the Arena Garage, 99 S. Howard Street, Baltimore, Md.—for all available parking options, see http://bit.ly/1F1wjWz.)

FOR FURTHER INFORMATION CONTACT: Jason E. Oyler, Regulatory Counsel, telephone: (717) 238-0423, ext. 1312; fax: (717) 238-2436.

SUPPLEMENTARY INFORMATION: The business meeting will include actions or presentations on the following items: (1) Informational presentation of interest to the Lower Susquehanna Subbasin area; (2) election of officers for FY-2016; (3) the proposed Water Resources Program for fiscal years 2016 and 2017; (4) FY-2016 Regulatory Program Fee Schedule; (5) adoption of a FY-2017 budget; (6) regulatory compliance matter for Wyoming Valley Country Club; (7) Augusta Water, Inc. request for waiver of application required by 18 CFR 806.6(d)(1) and transfer of Docket No. 20021014; (8) Shrewsbury Borough Council (York County, Pa.) request for waiver of applications required by 18 CFR 806.4(a)(2)(ii); (9) notice for Four Seasons Golf Course project sponsor to appear and show cause before the Commission; and (10) Regulatory Program projects.

Projects, the fee schedule, and requests for waiver listed for Commission action are those that were the subject of a public hearing conducted by the Commission on April 30, 2015, and identified in the notice for such hearing, which was published in 80 FR 18276, April 3, 2015.

Opportunity to Appear and Comment

Interested parties are invited to attend the business meeting and encouraged to review the Commission's Public Meeting Rules of Conduct, which are posted on the Commission's Web site, www.srbc.net. As identified in the public hearing notices referenced above, written comments on the Regulatory Program projects, the fee schedule, and requests for waiver that were the subject of a public hearing, and are listed for action at the business meeting, are subject to a comment deadline of May 11, 2015. Written comments pertaining to any other matters listed for action at the business meeting may be mailed to the Susquehanna River Basin Commission, 4423 North Front Street, Harrisburg, Pennsylvania 17110-1788, or submitted electronically through http://www.srbc.net/pubinfo/publicparticipation.htm. Any such comments mailed or electronically submitted must be received by the Commission on or before May 29, 2015, to be considered.

Authority: Pub. L. 91-575, 84 Stat. 1509 et seq., 18 CFR parts 806, 807, and 808.

Dated: May 4, 2015.
Stephanie L. Richardson,
Secretary to the Commission.

[FR Doc. 2015-11051 Filed 5-7-15; 8:45 am]

BILLING CODE 7040-01-P